FEDERAL DEPOSIT INSURANCE CORPORATION

Sunshine Act Meeting; Notice of Matters To Be Added to the Agenda for Consideration at an Agency Meeting

Pursuant to the provisions of the “Government in the Sunshine Act” (5 U.S.C. 552b), notice is hereby given that the following matters will be added to the “discussion agenda” for consideration at the open meeting of the Board of Directors of the Federal Deposit Insurance Corporation scheduled to be held at 10 a.m. on Tuesday, September 13, 2011, in the Board Room on the sixth floor of the FDIC Building located at 550-17th Street, NW., Washington, DC:

Memorandum and resolution re: Final Rule on Resolution Plans Required.

Memorandum and resolution re: Interim Final Rule on Resolution Plans Required for Insured Depository Institutions with $50 Billion or More in Total Assets.

This Board meeting will be Webcast live via the Internet and subsequently made available on-demand approximately one week after the event. Visit http://www.vodium.com/goto/fdic/boardmeetings.asp to view the event. If you need any technical assistance, please visit our Video Help page at: http://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Ms. Valerie J. Best, Assistant Executive Secretary of the Corporation, at 202-898-7043.

Dated: September 7, 2011.
Federal Deposit Insurance Corporation.
Valerie J. Best,
Assistant Executive Secretary.

[FR Doc. 2011-23647 Filed 9-12-11; 4:15 pm]

BILLING CODE P